COMMITTEE FOR PURCHASE FROM PEOPLE WHO ARE BLIND OR SEVERELY DISABLED

Procurement List; Proposed deletions

AGENCY: Committee for Purchase From People Who Are Blind or Severely Disabled.

ACTION: Proposed deletions from the procurement list.

SUMMARY: The Committee is proposing to delete services from the Procurement List that were furnished by nonprofit agencies employing persons who are blind or have other severe disabilities.

DATES: Comments must be received on or before: October 20, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following services are proposed for deletion from the Procurement List:

Services

Service Type: Bursting/Packaging Commemorative Stamps

Mandatory for: Department of the Interior: 1849 C Street NW, Washington, DC

Mandatory Source of Supply: Allied Community Services, Inc., Enfield, CT

Contracting Activity: OFFICE OF POLICY, MANAGEMENT, AND BUDGET, NBC ACQUISITION SERVICES DIVISION

Service Type: Janitorial/Custodial

Mandatory for: U.S. Army Reserve Center, Fort Hamilton, NY

Mandatory Source of Supply: Fedcap Rehabilitation Services, Inc., New York, NY

Contracting Activity: DEPT OF THE ARMY, W6QM MICC CTR-FT DIX (RC)

Service Type: Mailroom Operation

Mandatory for: Food and Drug Administration: 5630 Fishers Lane, Rockville, MD

Mandatory Source of Supply: Lt. Joseph P. Kennedy Institute, Washington, DC

Contracting Activity: FOOD AND DRUG ADMINISTRATION, DEPT OF HHS/FOOD AND DRUG ADMINISTRATION

Service Type: Laundry Service

Mandatory for: Immigration & Naturalization Service, 201 Varick Building, New York, NY

Contracting Activity: OFFICE OF POLICY, MANAGEMENT, AND BUDGET, NBC ACQUISITION SERVICES DIVISION

Service Type: Janitorial/Custodial

Mandatory for: VA Outpatient Clinic, Winston-Salem, NC

Mandatory Source of Supply: OE Enterprises, Inc., Hillsborough, NC

Contracting Activity: VETERANS AFFAIRS, DEPARTMENT OF, 246—NETWORK CONTRACTING OFFICE 6

Service Type: Janitorial/Custodial

Mandatory for: Eugene Outpatient Clinic: Department of Veteran Affairs, Eugene, OR

Mandatory Source of Supply: Garten Services, Inc., Salem, OR

Contracting Activity: VETERANS AFFAIRS, DEPARTMENT OF, NAC

Service Type: Janitorial/Custodial

Mandatory for: West LA VA Community Base Clinic, Los Angeles, CA

Mandatory for: San Diego Vet Center: 2900 Sixth Avenue, San Diego, CA

Mandatory Source of Supply: Job Options, Inc., San Diego, CA

Mandatory for: Veterans Outreach Center, Vista, CA

Contracting Activity: VETERANS AFFAIRS, DEPARTMENT OF, NAC

Service Type: Janitorial/Custodial

Mandatory for: Veterans Affairs Medical Center: 7305 N Military Trail, West Palm Beach, FL

Mandatory Source of Supply: Gulfstream Goodwill Industries, Inc., West Palm Beach, FL

Contracting Activity: VETERANS AFFAIRS, DEPARTMENT OF, 548P—WEST PALM PROSTHETICS

Patricia Briscoe,
Deputy Director, Business Operations (Pricing and Information Management).

[FR Doc. 2019-20383 Filed 9-19-19; 8:45 am]

BILLING CODE 6353-01-P